FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants:

Pota Global Logistics (USA) Inc., 2384 E. Pacific Place, Rancho Domingez, CA 90220, Officer: John J. Brown, President (Qualifying Individual).

American & Caribbean Shipping Inc., 13 East Tremont Ave., Bronx, NY 10453, Officer: Nuris E. Minaya, President (Qualifying Individual).

E-Freight Solutions Inc., 1150 South Monterey Street, Alhambra, CA 91801, Officers: Joey Tam, President (Qualifying Individual), Yu C. Lee, Secretary.

Alnour Investments, 438 East Katella Ave,. Orange, CA 92867, Officers: Denise Scott, Partner (Qualifying Individual), Khalid Elbarq, Partner.

Cargo Experts Corp., 8255 West Sunrise Blvd., Unit 169, Plantation, FL 33322, Officer: Stephanie Bodner, President (Qualifying Individual).

Oceanwind International, Inc. dba OWI; The Broadwell Group, 418 S. Prospect Ave., Redondo Beach, CA 90277, Officer: Amitabh Vw Mittal, Treasurer (Qualifying Individual).

Tuvia Italia S.p.A., Via Quintillano, 31/A, Milano 20138, Italy, Officers: Martina Dacca, Vice President (Qualifying Individual), Marco Orilo, President.

Flash Forwarding, Inc., 169 Spencer Avenue, Lynbrook, NY 11563, Officer: Barbara A. Ercole, President (Qualifying Individual).

Direct Services Solutions, Inc., 2 Giralda Farms, Madison Ave., P.O. Box 880, Madison, NJ 07940-0880, Officer: Jens F. Wessel, Vice President Sales (Qualifying Individual).

Non-Vessel Operating Common Carrier and Ocean Freight Forwarder Transportation Intermediary Applicants:

Phil-Ex Cargo, Inc., 94-1018 Awalai Street, Waipahu, HI 96797, Officer: Narcisco Gamiao, Jr., President (Qualifying Individual).

Eagle Maritime Inc., 115 River Road, Edgewater, NJ 07020, Officer: Rajiv W. Dixit, President (Qualifying Individual).

NMT USA, Inc., 4815 Gulf Boulevard, Saint Petersburg, FL 33706, Officer: Kevin J. Skoglund, Secretary (Qualifying Individual).

Three Oceans Transport Inc., 3001 Rocky Point Dr., Tampa, FL 33607, Officer: Micheal G. Elliott, Vice President (Qualifying Individual).

Cargo Service Center, Inc., 440 McClellan Highway, East Boston, MA 02128, Officer: Frank Yuen, Vice President (Qualifying Individual).

Link Lines, Inc., 234 Main Street, Unit 1, Lincoln Park, NJ 07035, Officer: Charles B. Audi, President, (Qualifying Individual).

Royalty Eximport Inc., 8422 NW. 70th Street, Miami, FL 33166, Officers: Clara L. Suarez, Vice President, (Qualifying Individual), Gonzalo Rodriguez, President.

Embarques Colonial Corporation, 1334 NW. 29th Street, Miami, FL 33142, Officer: Eduan Sanchez, Vice President, (Qualifying Individual).

Air Commerce Customs Brokers, Inc., 149-09 183rd Street, 2nd Floor, Springfield Gardens, NY 11413, Officer: Frank Chen, Vice President, (Qualifying Individual).

TMTUSA, Inc. 33 Wethersfield Road, Nashua, NH 03062, Officers: Catherine J. Hagerman, Ofc. Manager, (Qualifying Individual), Veronique Cossard, President.

Blue Cargo Group, LLC, 147-45 Farmers Blvd., Jamaica, NY 11434, Officers: Joel Switsky, Director, Khalid M. Aziz, Director, (Qualifying Individuals), Steven J. Periman, Director.

Express Logistics Group, Inc., 14439 S. Avalon Blvd., Gardena, CA 90248, Officers: Daniel O'Brien, Operations Manager, (Qualifying Individual), Timothy Stewart, Director.

Express 21, Inc., 144-45 156th Street, #2, Jamaica, NY 11434, Officer: Ted T. Kim, President, (Qualifying Individual).

Octopus Line Corporation, 8358 NW 66th Street, Miami, FL 33166, Officers: Holmes A. Cruz, President, (Qualifying Individual), Zulema L. Diaz, Secretary.

Optima Cargo & Logistics Inc. dba Optima Express, 1033 SW 125 Place, Miami, FL 33184, Officers: Mario A. Orozco, Operations Manager, (Qualifying Individual), Juan C. Nunez, President.

Trips, Inc., 236 Pleasant Street, Methuen, MA 01844, Officer: Amale S. Najjar, President, (Qualifying Individual).

Savannah Marine Terminal, Inc. dba SMT Logistics, 380 Magazine Ave., Savannah, GA 31415, Officer: Victor E. Vanderlugt, President, (Qualifying Individual).

Mondo-Comm International LLC, 17 Main Street, Bloomingdale, NJ 07403, Officer: Joseph Esposito, Operating Manager, (Qualifying Individual).

Astro Freight, Inc., 21 Vermillion, Irvine, CA 92603, Officer: Halying Chen, CEO, (Qualifying Individual).

Seastar, LLC, 6309 Schefer Road, Dearborn, MI 48126, Officers: Zeinas Jaber, Vice President, (Qualifying Individual), Fida Mourtada, Member.

APM Global Logistics USA Inc., dba Damoo Damco Sea and Air Damco Maritime; Damoco USA, DSL Star Express, Giralda Farms, Madison Ave., P.O. Box 880, Madison, NJ 07940-0880, Officer: Jens F. Wessel, Vice President, Sales, (Qualifying Individual).

Zenith Global Logistics, LLC, 210 Dehart Motor Terminal Rd., SW, Conover, NC 28613, Officers: Brian L. Baiers, Asst. Secretary, (Qualifying Individual), Jack L. Hawn, Member Manager.

Falcon Global Edge, Inc., 88 Black Falcon Ave., Boston, MA 02210, Officers: Richard Fisher, President, (Qualifying Individual).

Elite Transporation Services, LLC, 6600 NE 78th Ct., Portland, OR 97218, Officer: John T. Kooda, Secretary, (Qualifying Individual).

Eurosur Logistics LLC, 1519 NW 82nd Ave., Miami, FL 33126, Officers: Gilberto A. Altuve, MGRM, (Qualifying Individual), Enrique J. Aguerrevere, MGRM.

Salmad Ocean Line & Logistics, Inc., 245 Southfield Parkway, Ste. 100, Forest Park, GA 30297, Officer: Amadi K. Jah, President, (Qualifying Individual).

Bellville Rodair International Inc., 900 Milik Street, Unit 2, Cateret, NJ 07008, Officers: Paul F. McCauley, Vice President, (Qualifying Individual), Patrick Cullen, Chairman.

CDS Global Logistics, Inc., One Cross Island Plaza, Rosedale, NY 11422, Officers: Henry Wiseman, President, (Qualifying Individual), Danston Lam, Sr. Vice President.

Alps Logistics (USA), Inc., 1845 West 205th Street, Torrance, CA 90501, Officers: Katsuyuki Hosono, Vice President, (Qualifying Individual), Hiden Yokoyama, President.

Global Forwarding Enterprises Limited Liability Company, 49 Hedgerow Lane, Manalapan, NJ 07726, Officers: Thomas J. Dulski, Manager, (Qualifying Individual), Pavel Kapelnikon, Gen. Manager.

Ocean Freight Forwarder—Ocean Transportation Intermediary Applicants:

Nidal Brahimi, 52 Southgate Road, Franklin, MA 02038, Sole Proprietor.

G. A. Becnel, Inc., 3311 Ernest Street, Lake Charles, LA 70601, Officer: Nelda J. Becnel, President, (Qualifying Individual).

Worldwide Logistics of Columbus, 6663 Huntley Road, Columbus, OH 43229, Officer: Kwadwo W. Asante, Finance Officer, (Qualifying Individual).

Santiago Cargo Express, Corp., 96-04 Jackson Mill Rd., East Elmurst, NY 11369, Officer: Lupe Fernandez, President, (Qualifying Individual).

Kronoz International SA de CV, Av. Vasconcelos 109 L @-C, Col. Del Valle San Pedro Garza, Garcia Nuevo Leon C.P. Mexico 66220, Officers: Alejandro L. Lopez, CEO, (Qualifying Individual), Daniel S. Martinez, Chairman.

Airland Logistics Inc., 11811 N. Freeway, Ste. 547, Houston, TX 77060, Officers: Michael P. Scales, President, (Qualifying Individual), Jan Jensen, CEO.

Nor-Cal Moving Services, 2001 Marina Boulevard, San Leandro, CA 94577-3204, Officers: Anthony A. Vukovic, Vice President, (Qualifying Individual), Peter Mazzetti, Jr., President.

Supreme International Ltd., 354 Manistee Ave., Calumet City, IL 60409, Officer: Bosun Dominic, Operating Manager, (Qualifying Individual).

Mar Logistics, Inc., 3 Vista Street, Roslindale, MA 02131, Officers: Marco A. Olivera, Secretary, (Qualifying Individual), Sophia Giontzis, President.

Air Sea Express, Inc., 315 Harbor Way, So. San Francisco, CA 94080, Officers: Jean Thompson, Secretary, (Qualifying Individual), Roland Thompson, President.

Carolina Shipping Company, L.P. dba Carolina Logistics Ltd., 1064 Gardner Road, Charleston, SC 29407, Officer: Dennis Forsberg, President, (Qualifying Individual).

Ocean Wings Logistics, Inc., 3340-C Greens Rd., Ste. 550, Houston, TX 77032, Officers: Maria R. Banuelos, Office Manager, (Qualifying Individual), Thomas S. Pessarra, President.

L.E. Coppersmith, Inc. dba Adrienne Shipping Line, Inc., 525 S. Douglas Street, El Segundo, CA 90245, Officer: Lew E. Coppersmith, President, (Qualifying Individual).

Dated: April 24, 2009.
Karen V. Gregory,
Secretary.

[FR Doc. E9-9834 Filed 4-29-09; 8:45 am]

BILLING CODE 6730-01-P